DEPARTMENT OF COMMERCE

International Trade Administration

Export Trade Certificate of Review

ACTION: Notice of application to amend an Export Trade Certificate of Review.

SUMMARY: The Office of Export Trading Company Affairs (“OETCA”), International Trade Administration, U.S. Department of Commerce, has received an application to amend an Export Trade Certificate of Review (“Certificate”). This notice summarizes the proposed amendment and requests comments relevant to whether the Certificate should be issued.

FOR FURTHER INFORMATION CONTACT: Jeffrey C. Anspacher, Director, Office of Export Trading Company Affairs, International Trade Administration, (202) 482-5131 (this is not a toll-free number) or by E-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Office of Export Trading Company Affairs, International Trade Administration, U.S. Department of Commerce, Room 1104H, Washington, DC 20230. Information submitted by any person is exempt from disclosure under the Freedom of Information Act (5 U.S.C. 552). However, nonconfidential versions of the comments will be made available to the applicant if necessary for determining whether or not to issue the Certificate. Comments should refer to this application as “Export Trade Certificate of Review, application number 87-7A001.”

The American Film Marketing Association's (“AFMA”) original Certificate was issued on April 10, 1987 (52 FR 12578, April 17, 1987) and last amended on December 9, 1998 (64 FR 10993, March 8, 1999). A summary of the application for an amendment follows.

Summary of the Application:

Applicant: American Film Marketing Association (“AFMA”), 10850 Wilshire Blvd., 9th Floor, Los Angeles, California 90024-4321.

Contact: Thomas E. Arend, Jr., Attorney, Telephone: (202) 663-8070.

Application No.: 87-7A001.

Date Deemed Submitted: May 8, 2003.

Proposed Amendment: AFMA seeks to amend its Certificate to:

1. Add each of the following companies as a new “Member” of the Certificate within the meaning of section 325.2(l) of the Regulations (15 CFR 325.2(l): Adriana Chiesa Enterprises SRL, Rome, Italy; Alain Siritzky Productions (ASP), Paris, France; Alliance Atlantis Communications Corporation, Toronto, Canada; Arclight Films PTY. LtD., Sydney, Australia; Atlas International Film GMBH, Munich, Germany; Atrium Productions KFT, Rotterdam, The Netherlands; Beyond Films, Ltd., Surry Hills, Australia; British Film Institute, London, United Kingdom; Buena Vista Television, a Division of Disney/ABC Int'l TV Inc., Burbank, California; BV International Pictures AS, Avaldsnes, Norway; Capitol Films Limited, London, United Kingdom; China Star Entertainment Group, TST, Kowloon, Hong Kong; Cinemavault Releasing, Toronto, Canada; CORI Distribution Group, London, United Kingdom; Distant Horizon, Ltd., Surrey, United Kingdom; DZ Bank, London, United Kingdom; FIDEC, Montreal, Canada; Film Finance Corporation Australia, Sydney, Australia; Filmax-SOGEDASA, Barcelona, Spain; Filmexport Group SRL, Rome, Italy; Filmfour International, London, United Kingdom; Fintage House, Leiden, The Netherlands; Fleetboston Financial, Boston, Massachusetts; Focus Features, New York, New York; Fortissimo Film Sales, Amsterdam, The Netherlands; Freeway Entertainment Group Ltd., Budapest, Hungary; Fremantlemedia Enterprises, London, United Kingdom; Goldcrest Films International, Ltd., London, United Kingdom; Golden Harvest Entertainment Co., Ltd., Beverly Hills, California; Good Times Entertainment, Inc., Bel Air, California; Han Entertainment, Hong Kong; Hanway Films, London, United Kingdom; Hollywood Previews Entertainment, Inc., Santa Monica, California; Horizon Entertainment, Inc., Vancouver, Canada; IAC Film & Television, London, United Kingdom; Icon Entertainment International, London, United Kingdom; IFD Films & Arts, Ltd., Tsing Yi, New Territories, Hong Kong; IFM World Releasing, Inc., Glendale, California; In-Motion Pictures, Inc., London, United Kingdom; Intermedia, London, United Kingdom; Intra Movies SRL, Rome, Italy; JP Morgan Securities, Inc. Entertainment Industries Group, Los Angeles, California; Kevin Williams Associates, S.A., Madrid, Spain; Lolafilms, Madrid, Spain; Media Asia Distribution, Ltd., Causeway Bay, Hong Kong; Moviehouse Entertainment, London, United Kingdom; New Zealand Film Commission, Wellington, New Zealand; North American Releasing, Inc., Vancouver, Canada; North by Northwest Distribution, Spokane, Washington; Oasis International, Toronto, Canada; Pathe International, Paris, France; Powerhouse Entertainment Group, Inc., Beverly Hills, California; Pueblo Film Group, Zurich, Switzerland; Renaissance Films, Ltd., London, United Kingdom; Safir Films, LTD., Harrow, Middlesex, United Kingdom; SOGEPAQ S.A., Madrid, Spain; Solo Entertainment Group, Inc., Beverly Hills, California; Splendid Pictures, Inc., Bel Air, California; Stadsparkasse Koeln, Entertainment Finance, Cologne, Germany; Studiocanal, Boulogne, France; Svensk Filmindustri, AB, Stockholm, Sweden; Telepool, Munich, Germany; TF 1 International, Boulogne Billancourt Cedex, France; Trust Film Sales, Hvidovre, Denmark; TVA Films, a Division of Group TVA, Inc., Montreal, Canada; UGC International, Neuilly sur Seine, France; Vine International Pictures, Ltd., Downe, Orpington, United Kingdom; and The Works, London, United Kingdom; and

2. Delete each of the following companies as a “Member” of the Certificate: Arama Entertainment, Encino, California; Associated Television International, Los Angeles, California; Atmosphere Entertainment, Inc., Westlake Village, California; Blue Rider Pictures, Manhattan Beach, California; Capella Films, Los Angeles, California; Film Four International, Burbank, California; Helkon International Pictures, Inc., Beverly Hills, California; IFM Film Associates, Inc., Glendale, California; Largo Entertainment, Beverly Hills, California, NBC Enterprises, Burbank, California; Odyssey Pictures Corporation, Dallas, Texas; Saban Pictures International, Los Angeles, California; The Kushner-Locke Company, Beverly Hills, California; Village Roadshow Pictures, Burbank, California; CAL Fed Bank, Sherman Oaks, California; Chase Manhattan, Los Angeles, California; Cinema Completions International, Studio City, California; Far East National Bank, Los Angeles, California; Mizuho Corporate Bank, Ltd., Los Angeles, California; Motion Picture Bond Company, Los Angeles, California; Aura Entertainments LLC, Beverly Hills, California; Imageworks Entertainment International, Inc., Woodland Hills, California; Switch Entertainment, Norfolk, Virginia; Vortex Pictures, LLC, Santa Monica, California, and York Entertainment, Encino, California.

Dated: May 14, 2003.
Jeffrey C. Anspacher,
Director, Office of Export Trading, Company Affairs.

[FR Doc. 03-12632 Filed 5-19-03; 8:45 am]

BILLING CODE 3510-DR-P